ENVIRONMENTAL PROTECTION AGENCY

[ER-FRL-6670-4]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.An explanation of the ratings assigned to draft environmental impact statements (EISs) was published in FR dated April 1, 2005 (70 FR 16815).

Draft EISs

EIS No. 20050356, ERP No. D-FRC-G03028-00, Port Arthur Liquefield Natural Gas (LNG) Project, Construction and Operation, U.S. Army COE section 10 and 404 Permits, (FERC/EIS-0182D), Jefferson and Orange Counties, TX; and Cameron, Calcasieu, and Beauregard Parishes, LA.

Summary: EPA expressed environmental concerns and requested additional information to be included in the FEIS in the areas of air quality impacts, sediment analysis, dredged material placement for beneficial uses, habitat restoration and mitigation.

Rating EC2.

EIS No. 20050361, ERP No. D-FRC-L05232-WA, Rocky Reach Hydroelectric Project, (FERC/DEIS-0184D),Application for a New License for the Existing 865.76 Megawatt Facility, Public Utility District No. 1 (PUD), Columbia River, Chelan County, WA.

Summary: EPA does not object to the proposed project.

Rating LO.

EIS No. 20050388, ERP No. D-FRC-L05233-WA, Lewis River Hydroelectric Projects, Relicensing the Swift No. 1 (FERC No. 2111-018), Swift No. 2(FERC No. 2213-011), Yale (FERC No. 2071-013),Merwin (FERC No. 935-053) Project, Application for Relicense, North Fork Lewis River, Cowlitz,Clark and Shamania Counties, WA.

Summary: EPA expressed environmental concerns about water quality impacts, and requested additional information regrading water quality impacts be included in the final EIS.

Rating EC2.

Final EISs

EIS No. 20050440, ERP No. F-SFW-L65451-AK, Alaska Peninsula and Becharof National Wildlife Refuges, Revised Comprehensive Conservation Plan,Implementation, AK.

Summary: EPA does not object to the project as proposed.No formal comment letter was sent to the preparing agency.

EIS No. 20050451, ERP No. F-AFS-L39061-WA, Fish Passage and Aquatic Habitat Restoration at Hemlock Dam, Implementation, Gifford Pinchot National Forest, Mount Adams District, Skamania County, WA.

Summary: No formal comment letter sent to the preparing agency.

EIS No. 20050464, ERP No. F-AFS-G65072-00, Ouachita National Forest, Proposed Revised Land Resource Management Plan, Implementation, Several Counties, AR; and LeFlore and McCurtain Counties, OK.

Summary: No formal comment letter was sent to the preparing agency.

EIS No. 20050466, ERP No. F-COE-C39018-NJ, Liberty State Park Ecosystem Restoration Project, Hudson Raritan Estuary Study, To Address the Adverse Impacts Associated with Past Filling Activities, Port Authority of New and New Jersey City, Hudson County, NJ.

Summary: No formal comment letter sent to preparing agency.

EIS No. 20050467, ERP No. F-COE-C39017-NY, Montuak Point Storm Damage Reduction Project, Proposed Reinforcement of an Existing Stone Revetment Wall, Suffolk County, NY.

Summary: No comment letter was sent was sent to the proposing agency.

EIS No. 20050477, ERP No. F-COE-K36141-AZ, Santa Cruz River, Paseo de las Iglesias Feasibility Study, To Identify, Define and Solve Environmental Degradation, Flooding and Water Resource Problems, City of Tucson, Pima County, AZ.

Summary: No formal comment letter was sent to the preparing agency.

EIS No. 20050352, ERP No. FS-NPS-L65264-WA, Elwha River Ecosystem Restoration Implementation Project, Updated Information, Olympic Peninsula, Challam County, WA.

Summary: No formal comment letter was sent to the preparing agency.

Dated: December 13, 2005.
Robert W. Hargrove,
Director, NEPA Compliance Division, Office of Federal Activities.

[FR Doc. E5-7444 Filed 12-15-05; 8:45 am]

BILLING CODE 6560-50-P